NATIONAL ARCHIVES AND RECORDS ADMINISTRATION

Privacy Act of 1974, as Amended; System of Records Notices

AGENCY: National Archives and Records Administration.

ACTION: Notice; new privacy system of records titled “Internal Collaboration Network”.

SUMMARY: The National Archives and Records Administration (NARA) proposes to add a system of records to its existing inventory of systems subject to the Privacy Act of 1974, as amended (5 U.S.C. 552(a)) (“Privacy Act”). In this notice, NARA publishes NARA 43, the Internal Collaboration Network, which contains files with information on National Archives employees, volunteers, and contractors.

DATES: This new system of records, NARA 43, will become effective July 2, 2012 without further notice unless comments are received that result in further revision. NARA will publish a new notice if the effective date is delayed to review comments or if changes are made based on comments received. To be assured of consideration, comments should be received on or before the date above.

ADDRESSES: You may submit comments, identified by SORN number NARA 43, by one of the following methods:

• Federal e-Rulemaking Portal: http://www.regulations.gov. Follow the instructions for submitting comments.

• Fax: 301-837-0293.

• Mail: Laura McCarthy, Strategy Division, Room 4100, National Archives and Records Administration, 8601 Adelphi Road, College Park, MD 20740-6001.

FOR FURTHER INFORMATION CONTACT: Pamela Wright, Open Government Office, Room 3200, National Archives and Records Administration, 8601 Adelphi Road, College Park, MD 20740-6001. Telephone: (301) 837-2029. Fax: 301-837-0312.

SUPPLEMENTARY INFORMATION: The Internal Collaboration Network is a web-based platform that allows users to better collaborate on work projects across geographic locations and offices and allow the agency to better preserve NARA's institutional knowledge. The platform allows for user-generated content in the form of documents, polls, ideas, blog posts, user profiles, project management and commenting features.

The notice for this system of records states the name and the location of the record system, the authority for and manner of its operation, the categories of individuals that it covers, the types of records that it contains, the sources of information in the records, and the proposed “routine uses” of the system of records. The notice also includes the business address of the NARA official who will inform interested persons of the procedures whereby they may gain access to, and correct, records pertaining to themselves.

One of the purposes of the Privacy Act, as stated in section 2(b)(4) of the Act, is to provide certain safeguards for an individual against an invasion of personal privacy by requiring Federal agencies to disseminate any record of identifiable personal information in a manner that assures that such action is for a necessary and lawful purpose, that the information is current and accurate for its intended use, and that adequate safeguards are provided to prevent misuse of such information. NARA intends to follow these principles in transferring information to another agency or individual as a “routine use” including assurance that the information is relevant for the purposes for which it is transferred.

Dated: May 21, 2012.
David S. Ferriero,
Archivist of the United States.

NARA Privacy Act Systems: NARA 43

SYSTEM NAME:

Internal Collaboration Network

SYSTEM LOCATION:

The Internal Collaboration Network files are maintained electronically on servers under the control of the National Technical Information Center as part of the Department of Commerce. NTIS servers are located in Alexandria, Virginia.

CATEGORIES OF INDIVIDUALS COVERED BY THE SYSTEM:

Individuals covered by this system include all ICN users. ICN users can include National Archives employees, volunteers, and contractors.

CATEGORIES OF RECORDS IN THE SYSTEM:

The ICN files may include any of the following information about users in the user profile: name, title, department, home address, work address, home phone, work phone, mobile phone, hire date, biography, expertise, personal email, and official duty station. Users are not required to share information other than name and work email. Users may collaborate on the network to create other files including: discussion threads, interest groups, project plans, tasks, ideas, and documents.

AUTHORITY FOR MAINTENANCE OF THE SYSTEM:

5 U.S.C. 552a(a)(3), as amended.

44 U.S.C. 2104(a), as amended.

ROUTINE USES OF RECORDS MAINTAINED IN THE SYSTEM, INCLUDING CATEGORIES OF USERS AND THE PURPOSES OF SUCH USES:

NARA maintains ICN files for the benefit and use of all ICN users to enhance communication and collaboration among all users and to facilitate the work flow among all NARA locations and offices. The routine use statements A, B, C, D, E, F, G, and H described in Appendix A, published in the Federal Register at 72 FR 56570-01 and available on www.archives.gov, apply to this system of records.

POLICIES AND PRACTICES FOR STORING, RETRIEVING, ACCESSING, RETAINING, AND DISPOSING OF RECORDS IN THE SYSTEM:

STORAGE:

Electronic records.

RETRIEVABILITY:

Information in these case files may be retrieved by the name of the individual or key word. All content is fully searchable and indexed.

SAFEGUARDS:

The files are at all times maintained in a secure network environment, in compliance with the Federal Information Management and Security Act system security requirements at a moderate-impact system level.

RETENTION AND DISPOSAL:

NARA ICN files are unscheduled at this time.

SYSTEM MANAGER(S) AND ADDRESS:

The system manager is Pamela Wright, Open Government Office, Room 3200, National Archives and Records Administration, 8601 Adelphi Road, College Park, MD 20740-6001. Telephone: (301) 837-2029. Fax: 301-837-0312.

NOTIFICATION PROCEDURE:

Individuals interested in inquiring about their records should notify the NARA Privacy Act Officer at the Privacy Act Officer, Room 3110, National Archives and Records Administration, 8601 Adelphi Road, College Park, MD 20740-6001.

RECORDS ACCESS PROCEDURES:

Individuals who wish to gain access to their records should submit their request in writing to the NARA Privacy Act Officer the address listed above.

CONTESTING RECORDS PROCEDURES:

NARA rules for contesting the contents and appealing initial determinations are found in 36 CFR part 1202.

RECORDS SOURCE CATEGORIES:

Information in the ICN is obtained directly from the ICN users, except in cases of name and work email address, which is populated automatically by the system.

[FR Doc. 2012-13200 Filed 5-30-12; 8:45 am]

BILLING CODE 7515-01-P